DEPARTMENT OF ENERGY

Federal Energy Regulatory Commission

Notice of Schedule for Environmental Review of the Atlantic Coast Pipeline and the Supply Header Project

| Docket Nos.
Atlantic Coast Pipeline, | CP15-554-000
LLC | CP15-554-001
Dominion Transmission, Inc | CP15-555-000

On September 18, 2015, Atlantic Coast Pipeline, LLC (Atlantic) and Dominion Transmission, Inc. (Dominion) filed applications in Docket Nos. CP15-554-000 and CP15-555-000 requesting a Certificate of Public Convenience and Necessity pursuant to Sections 7(b) and 7(c) of the Natural Gas Act to construct, operate, and maintain certain natural gas pipeline facilities. Atlantic's proposed Atlantic Coast Pipeline in West Virginia, Virginia, and North Carolina would transport about 1.5 billion cubic feet per day of natural gas from production areas in the Appalachian Basin to markets in Virginia and North Carolina. Dominion's proposed Supply Header Project in Pennsylvania and West Virginia would allow additional gas transportation on its existing system and would transport gas to various customers, including Atlantic. Because these are interrelated projects, the Federal Energy Regulatory Commission (FERC or Commission) deemed it was appropriate to analyze them in a single environmental impact statement (EIS).

On October 2, 2015, the FERC issued its Notice of Application for the projects. Among other things, that notice alerted other agencies issuing federal authorizations of the requirement to complete all necessary reviews and to reach a final decision on the request for a federal authorization within 90 days of the date of issuance of the Commission staff's final EIS for the Atlantic Coast Pipeline and Supply Header Project. This instant notice identifies the FERC staff's planned schedule for completion of the final EIS for the projects, which is based on an issuance of the draft EIS in December 2016.

Schedule for Environmental Review

Issuance of Notice of Availability of the final EIS: June 30, 2017.

90-day Federal Authorization Decision Deadline: September 28, 2017.

If a schedule change becomes necessary for the final EIS, an additional notice will be provided so that the relevant agencies are kept informed of the projects' progress.

Project Description

The Atlantic Coast Pipeline consists of 333.1 miles of 42-inch-diameter mainline pipeline in West Virginia, Virginia, and North Carolina; 186.0 miles of 36-inch-diameter mainline pipeline in North Carolina; 83.0 miles of 20-inch-diameter lateral pipeline in North Carolina and Virginia; and two short 16-inch-diameter lateral pipelines in Brunswick and Greenville Counties, Virginia. In addition, Atlantic proposes to construct and operate three new compressor stations totaling 130,345 horsepower in Lewis County, West Virginia; Buckingham County, Virginia; and Northampton County, North Carolina, along with other aboveground facilities along the mainline and lateral pipelines.

The Supply Header Project consists of 3.9 miles of 30-inch-diameter pipeline loop in Westmoreland County, Pennsylvania; 33.6 miles of 30-inch-diameter pipeline loop in West Virginia; and modifications to four existing compressor stations in Westmoreland County, Pennsylvania; Greene County, Pennsylvania; and Marshall and Wetzel Counties, West Virginia.

Background

On November 13, 2014, the Commission staff granted Atlantic's and Dominion's request to use the FERC's Pre-filing environmental review process and assigned the Atlantic Coast Pipeline temporary Docket No. PF15-6-000 and the Supply Header Project temporary Docket No. PF15-5-000. On February 27, 2015, the Commission issued a Notice of Intent to Prepare an Environmental Impact Statement for the Planned Supply Header Project and Atlantic Coast Pipeline Project, Request for Comments on Environmental Issues, and Notice of Public Scoping Meetings (NOI). On March 22, 2016, the FERC issued a Notice of Amendment to Application announcing that Atlantic had filed an amendment to its application. On May 3, 2016, the Commission issued a Supplemental NOI that discussed the amendments to Atlantic's application and opened a scoping period for route modifications that Atlantic incorporated into the Atlantic Coast Pipeline.

The NOIs were sent to our environmental mailing list that include federal, state, and local government agencies; elected officials; affected landowners; regional environmental groups and nongovernmental organizations; Native Americans and Indian tribes; local libraries and newspapers; and other interested parties. Major environmental issues raised during scoping included karst terrain and caves; impacts on groundwater and springs, drinking water supplies, and surface waterbodies; impacts on forest; impacts on property values and the use of eminent domain; impacts on tourism; impacts on public recreational areas such as the Monongahela and George Washington National Forests, Appalachian National Scenic Trail, and the Blue Ridge Parkway; impacts on historic properties and districts; and pipeline safety.

The U.S. Department of Agriculture, Forest Service, Monongahela National Forest and George Washington National Forest; U.S. Army Corps of Engineers; U.S. Environmental Protection Agency; U.S. Fish and Wildlife Service, Great Dismal Swamp National Wildlife Refuge; West Virginia Department of Environmental Protection; and West Virginia Division of Natural Resources are cooperating agencies in the preparation of the EIS.

Additional Information

In order to receive notification of the issuance of the EIS and to keep track of all formal issuances and submittals in specific dockets, the Commission offers a free service called eSubscription (http://www.ferc.gov/docs-filing/esubscription.asp). Additional data about the projects can be obtained electronically through the Commission's Internet Web site (www.ferc.gov). Under “Dockets & Filings,” use the “eLibrary” link, select “General Search” from the menu, enter the docket numbers excluding the last three digits (i.e., CP15-554 or CP15-555), and the search dates. Questions about the projects can be directed to the Commission's Office of External Affairs at (866) 208-FERC.

Dated: August 12, 2016.
Kimberly D. Bose,
Secretary.

[FR Doc. 2016-19751 Filed 8-17-16; 8:45 am]

BILLING CODE 6717-01-P